DEPARTMENT OF ENERGY

Federal Energy Regulatory Commission

[Docket No., IN13-15-000]

BP America Inc., BP Corporation North America Inc., BP America Production Company, and BP Energy Company; Notice of Designation of Commission Staff as Non-Decisional

With respect to orders issued by the Commission on August 5, 2013 and May 15, 2014 in the above-captioned docket, with the exceptions noted below, the staff of the Office of Enforcement are designated as non-decisional in deliberations by the Commission in this docket. Accordingly, pursuant to 18 CFR 385.2202 (2014), they will not serve as advisors to the Commission or take part in the Commission's review of any offer of settlement. Likewise, as non-decisional staff, pursuant to 18 CFR 385.2201 (2014), they are prohibited from communicating with advisory staff concerning any deliberations in this docket.

Exceptions to this designation as non-decisional are:

James Owens

Timothy Helwick

Shawn Bennett

Jill Davis

Sebastian Krynski

Grace Kwon

Dated: June 25, 2015.
Kimberly D. Bose,
Secretary.

[FR Doc. 2015-16303 Filed 7-1-15; 8:45 am]

BILLING CODE 6717-01-P